ENVIRONMENTAL PROTECTION AGENCY

40 CFR Part 60

[EPA-HQ-OAR-2008-0697; FRL-8948-9]

RIN 2060-AP08

Revisions to Test Method for Determining Stack Gas Velocity Taking Into Account Velocity Decay Near the Stack Walls

Correction

In proposed rule document E9-20395 beginning on page 42819 in the issue of Tuesday, August 25, 2009 make the following correction:

Appendix A-2 to Part 60 [Corrected]

On page 42819, in Appendix A-2 to Part 60, Equation 2H-1 is reprinted correctly to read as set forth below:

[FR Doc. Z9-20395 Filed 9-8-09; 8:45 am]

BILLING CODE 1505-01-D